ENVIRONMENTAL PROTECTION AGENCY

[FRL-8034-4]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held February 28, March 1, and March 2, 2006 at the Hotel Washington, Washington, DC. The CHPAC was created to advise the Environmental Protection Agency on science, regulations, and other issues relating to children's environmental health.

DATES: The Emerging Chemicals of Concern, Voluntary Children's Chemical Evaluation Program (VCCEP), and National Ambient Air Quality for Particulate Matter task groups will meet Tuesday February 28, 2006. Plenary sessions will take place Wednesday, March 1, 2006 and Thursday, March 2, 2006.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The Science and Regulatory Work Groups will meet Tuesday, February 28, 2006 8:30 a.m. to 5:30 p.m. The plenary CHPAC will meet on Wednesday, March 1, 2006 9 a.m. to 5:45 p.m., with a public comment period at 5:30 p.m., and on Thursday, March 2, 2006 from 8:30 a.m. to 12:30 a.m.

The plenary session will open with introductions and a review of the agenda and objectives for the meeting. Agenda items include a presentation on the EPA's Human Subjects Final Rule, discussions of comments on (1) EPA's actions relating to perchlorate; (2) evaluation of EPA's Voluntary Children's Chemical Evaluation Program; and (3) EPA's National Ambient Air Quality Standards for Particulate Matter. Agenda attached.

Dated: February 14, 2006.
Joanne K. Rodman,
Designated Federal Official.

Children's Health Protection Advisory Committee, Hotel Washington, 515 15th Street, NW., Washington, DC 20004-1099, February 28-March 2, 2006

Draft Agenda

Tuesday, February 28, 2006

Task Group Meetings

8:30 a.m.-12:30 p.m. National Ambient Air Quality Standards (NAAQS) for Particulate Matter

8:00 a.m.-12:30 p.m. Emerging Chemicals of Concern

12:30 p.m. Lunch

1:15 p.m.-5:30 p.m. Voluntary Children's Chemical Evaluation Program (VCCEP)

Wednesday, March 1, 2006

9 a.m. Welcome, Introductions, Review Meeting Agenda

9:15 a.m. Panel: Adding Insights and Perspectives from Public Health Nursing and Tribes

9:30 a.m. Highlights of Recent OCHP Activities

10 a.m. Human Subjects Final Rule

10:45 a.m. Break

11 a.m. Emerging Chemicals of Concern Task Group Update and Comment Letter

12:30 p.m. Lunch

2 p.m. VCCEP Task Group Update and Discussion

3:15 p.m. Break

3:30 p.m. NAAQS for Particulate Matter Task Group Update and Comment Letter

4:45 p.m. Presentation and Update: NAS Panel on Toxicity Testing

5:30 p.m. Public Comment

5:45 p.m. Adjourn

Thursday, March 2, 2006

8:30 a.m. Discussion of Day One

8:40 a.m. Presentation on National Environmental Education Advisory Council

9:15 a.m. Discuss and Agree on Perchlorate Recommendations

10:15 a.m. Break

10:30 a.m. NAAQS for Particulate Recommendations

11:30 a.m. VCCEP Recommendations

12:15 p.m. Wrap up/Next Steps

12:30 p.m. Adjourn

[FR Doc. E6-2409 Filed 2-17-06; 8:45 am]

BILLING CODE 6560-50-P